NUCLEAR REGULATORY COMMISSION

[Docket No. 70-1151; NRC-2015-0039]

Westinghouse Electric Company, LLC, Columbia Fuel Fabrication Facility

AGENCY: Nuclear Regulatory Commission.

ACTION: Draft environmental impact statement; reopening of comment period.

SUMMARY: On July 30, 2021, the U.S. Nuclear Regulatory Commission (NRC) issued a draft Environmental Impact Statement (EIS) for Westinghouse Electric Company, LLC's (WEC's) license renewal application to continue to operate its Columbia Fuel Fabrication Facility (CFFF) for an additional 40 years. The public comment period for the draft EIS opened on August 6 and closed on September 20, 2021. The NRC has decided to re-open the public comment period until November 19, 2021 to allow more time for the public to submit comments. The CFFF is located in Hopkins, South Carolina, and manufactures nuclear fuel assemblies for commercial nuclear power plants. The WEC's license renewal request, if granted as proposed, would allow the CFFF to continue to be a source of nuclear fuel for commercial nuclear power plants for 40 years from the date the NRC approves the renewal.

DATES: The comment period for the document published on August 6, 2021 (86 FR 43276) has been reopened. Comments should be filed no later than November 19, 2021. Comments received after this date will be considered, if it is practical to do so, but the Commission is able to ensure consideration only for comments received on or before this date.

ADDRESSES: You may submit comments by any of the following methods:

• Federal Rulemaking Website: Go to https://www.regulations.gov/ and search for Docket ID NRC-2015-0039. Address questions about Docket IDs to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: WEC_CFFF_EIS@nrc.gov.

• Leave comments by voicemail at: 1-800-216-0881.

For additional direction on obtaining information and submitting comments, see “Obtaining Information and Submitting Comments” in the SUPPLEMENTARY INFORMATION section of this document.

FOR FURTHER INFORMATION CONTACT: Diana Diaz-Toro, telephone: 301-415-0930; email: Diana.Diaz-Toro@nrc.gov or Jean Trefethen, telephone: 301-415-0867; email: Jean.Trefethen@nrc.gov. Both are staff of the Office of Nuclear Material Safety and Safeguards, U.S. Nuclear Regulatory Commission, Washington, DC 20555-0001.

SUPPLEMENTARY INFORMATION:

I. Obtaining Information and Submitting Comments

A. Obtaining Information

Please refer to Docket ID NRC-2015-0039 when contacting the NRC about the availability of information regarding this document. You may obtain publicly available information related to this action by the following methods:

• Federal Rulemaking Website: Go to https://www.regulations.gov and search for Docket ID NRC-2015-0039.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The draft EIS can be found in ADAMS under Accession No. ML21209A213.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

• Project Website: Information related to the WEC project can be accessed on the NRC's WEC website at https://www.nrc.gov/info-finder/fc/westinghouse-fuel-fab-fac-sc-lc.html. Under the section titled “Operating,” scroll down to “Key Documents” and click on draft EIS, NUREG-2248, draft Report for Comment.

• Public Libraries: A copy of the NRC staff's draft EIS is available at the following public libraries (library access and hours are determined by local policy):

• Richland Public Library—Main: 1431 Assembly St., Columbia, SC 29201;

• Richland Public Library—Lower Richland: 9019 Garners Ferry Road, Hopkins, SC 29061; and

• Richland Public Library—Eastover: 608 Main Street, Eastover, SC 29044.

B. Submitting Comments

Please include Docket ID NRC-2015-0039 in the subject line of your comment submission.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

On August 6, 2021, the NRC issued for public comment the draft EIS for WEC's license renewal application, which includes the NRC staff's analysis that evaluates the environmental impacts of the proposed action and alternatives to the proposed action. Based on the NRC staff's (i) review of the license renewal application request, which includes the environmental report, supplemental documents, and the licensee's responses to the NRC staff's requests for additional information; (ii) consultation with federal, state, and tribal agencies and input from other stakeholders; and (iii) independent review as documented in the assessments summarized in the draft EIS, the NRC staff has concluded that the proposed action would result in small impacts on all resource areas except for groundwater resources for which the impacts would be small to moderate.

The public comment period closed on September 20, 2021 (86 FR 43276). The NRC received requests from members of the public and state-elected officials to extend the comment period. After considering these requests, the NRC has decided to re-open the comment period to allow more time for the public to submit comments on the draft EIS. Comments should be submitted by November 19, 2021, to ensure consideration.

Dated: September 23, 2021.
For the Nuclear Regulatory Commission.
Jessie M. Quintero,
Chief, Environmental Review Materials Branch, Division of Rulemaking, Environmental and Financial Support, Office of Nuclear Material Safety, and Safeguards.

[FR Doc. 2021-21053 Filed 9-27-21; 8:45 am]

BILLING CODE 7590-01-P